DEPARTMENT OF THE INTERIOR

Bureau of Land Management

[OR-027-1020-PI-020H-07-048]

Notice of Call for Nominations for the Steens Mountain Advisory Council

AGENCY: Bureau of Land Management, Department of the Interior.

ACTION: Call for Nominations.

SUMMARY: The Bureau of Land Management (BLM) is publishing this notice under section 9(a)(2) of the Federal Advisory Committee Act. Pursuant to the Steens Mountain Cooperative Management and Protection Act of 2000 (Pub. L. 106-399), the BLM gives notice that the Secretary of the Interior intends to call for nominations for vacating positions on the Steens Mountain Advisory Council. This notice requests the public to submit nominations for membership on the Steens Mountain Advisory Council.

Any individual or organization may nominate one or more persons to serve on the Steens Mountain Advisory Council. Individuals may nominate themselves or others for Steens Mountain Advisory Council membership. Nomination forms may be obtained from the BLM Burns District Office (see address below). To make a nomination, submit a completed nomination form, letters of reference from the represented interests or organizations, as well as any other information that speaks to the nominee's qualifications, to the BLM Burns District Office. Nominations may be made for the following categories of interest:

• A person who has no financial interest in the Cooperative Management and Protection Area to represent Statewide interests (appointed from nominees submitted by the Governor of Oregon);

• A member of the Burns Paiute Tribe (appointed from nominees submitted by the Burns Paiute Tribe);

• A person who participates in what is commonly called mechanized or consumptive recreation, such as hunting, fishing, off-road driving, hang gliding, or parasailing (appointed by the BLM Oregon State Director); and

• A person who is a grazing permittee on Federal lands in the Cooperative Management and Protection Area (appointed by the county court for Harney County, Oregon).

The specific category the nominee will represent should be identified in the letter of nomination. The BLM Burns District will collect the nomination forms and letters of reference and distribute them to the officials responsible for submitting nominations (County Court of Harney County, the Governor of Oregon, and the BLM). The BLM will the forward recommended nominations to the Secretary of the Interior, who has responsibility for making the appointments.

DATES: Nominations should be submitted to the address listed below no later than 30 days after publication in the Federal Register.

FOR FURTHER INFORMATION CONTACT: Rhonda Karges, Management Support Specialist, Burns District Office, 28910 Highway 20 West, Hines, Oregon 97738 (541) 573-4433, or Rhonda_Karges@blm.gov.

SUPPLEMENTARY INFORMATION: The purpose of the Steens Mountain Advisory Council is to advise the BLM on the management of the Steens Mountain Cooperative Management and Protection Area as described in Title 1, Subtitle D of Public Law 106-399. Each member will be a person who, as a result of training and experience, has knowledge or special expertise that qualifies him or her to provide advice from among the categories of interest listed above.

Members of the Steens Mountain Advisory Council are appointed for a 3-year term. Appointment to these four positions will begin on earlier than October 2007 and will end October 2010.

Members will serve without monetary compensation, but will be reimbursed for travel and per diem expenses at current rates for Government employees. The Steens Mountain Advisory Council shall meet only at the call of the Designated Federal Official, but not less than once per year.

Dated: January 10, 2007.
Dana R. Shuford,
Burns District Manager, Bureau of Land Management, Burns, Oregon.

[FR Doc. 07-1534 Filed 3-29-07; 8:45 am]

BILLING CODE 4310-33-M